DEPARTMENT OF HEALTH AND HUMAN SERVICES

Centers for Disease Control and Prevention

Guide to Community Preventive Services (GCPS) Task Force Meeting

In accordance with section 10(a)(2) of the Federal Advisory Committee Act (Pub. L. 92-463), the Centers for Disease Control and Prevention (CDC) announces the following meeting:

Name: Task Force on Community Preventive Services.

Times and Dates: 8:30 a.m.-6 p.m., June 11, 2003. 8:30 a.m.-12:30 p.m., June 12, 2003.

Place: The Sheraton Colony Square, 188 14th Street, NE., Atlanta, Georgia 30361, telephone (404) 892-6000.

Status: Open to the public, limited only by the space available. Persons interested in reserving a space for this meeting should call 770/488-8189 by close of business on June 6, 2003.

Purpose: The mission of the Task Force is to develop and publish a Guide to Community Preventive Services, which is based on the best available scientific evidence and current expertise regarding essential public health services, and what works in the delivery of those services.

Matters to be Discussed: Agenda items include briefings on administrative information, methods and intervention reviews; a strategic planning session; and sessions to approve recommendations for the following interventions: School-based Tobacco Use Prevention Education; 1 on 1 Education to Promote Cancer Screening; Improving Pregnancy Outcomes; Collaborative Care for Improving Treatment for Depression, Nutrition and Obesity.

Agenda items are subject to change as priorities dictate.

Contact Person or Additional Information: Peter Briss, M.D., M.P.H., Acting Chief, Community Guide Branch, Division of Prevention Research and Analytic Methods, Epidemiology Program Office, CDC, 4770 Buford Highway, M/S K-73, Atlanta, Georgia, telephone 770/488-8189.

The Director, Management Analysis and Services office has been delegated the authority to sign Federal Register notices pertaining to announcements of meetings and other committee management activities, for both CDC and the Agency for Toxic Substances and Disease Registry.

Dated: May 23, 2003.
Alvin Hall,
Director, Management Analysis and Services Office, Centers for Disease Control and Prevention.

[FR Doc. 03-13510 Filed 5-29-03; 8:45 am]

BILLING CODE 4163-18-P